DEPARTMENT OF THE INTERIOR

National Park Service

[NPS-WASO-NAGPRA-10844; 2200-1100-665]

Notice of Inventory Completion: Washington State Parks and Recreation Commission, Olympia, WA

AGENCY: National Park Service, Interior.

ACTION: Notice.

SUMMARY: The Washington State Parks and Recreation Commission has completed an inventory of human remains in consultation with the appropriate Indian tribes, and has determined that there is no cultural affiliation between the remains and any present-day Indian tribe. Representatives of any Indian tribe that believes itself to be culturally affiliated with the human remains may contact the Washington State Parks and Recreation Commission. Disposition of the human remains to the Indian tribes stated below may occur if no additional requestors come forward.

DATES: Representatives of any Indian tribe that believes it has a cultural affiliation with the human remains should contact the Washington State Parks and Recreation Commission at the address below by September 13, 2012.

ADDRESSES: Alicia Woods, Washington State Parks and Recreation Commission, P.O. Box 42650, Olympia, WA 98504-2650, telephone (360) 902-0939.

SUPPLEMENTARY INFORMATION: Notice is here given in accordance with the Native American Graves Protection and Repatriation Act (NAGPRA), 25 U.S.C. 3003, of the completion of an inventory of human remains in the possession of the Washington State Parks and Recreation Commission and the Sacajawea State Park. The human remains were removed from an unknown location but are believed to have originated in the middle Columbia River region in Benton, Franklin, Grant, and Klickitat counties, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Washington State Parks and Recreation Commission professional staff in consultation with representatives of the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho (previously listed as Nez Perce Tribe of Idaho) (hereafter referred to as “The Tribes”). Washington State Parks and Recreation Commission also consulted with the Wanapum Band, a non-Federally recognized Indian group (hereafter referred to as “The Indian Group”).

History and Description of the Remains

Sometime between 1939 and 1976, human remains representing, at minimum, two individuals were acquired by the Sacajawea Museum at Sacajawea State Park, Pasco, WA. No donation or loan documentation has been located for the remains. Between 1976 and 2007, the remains were removed from the museum's storage and placed in an off-site facility near the Washington State Parks and Recreation Commission (hereafter State Parks) headquarters in Olympia, WA. No known individuals were identified. No associated funerary objects are present.

In 1939, the Sacajawea Museum at Sacajawea State Park in Pasco, WA, opened to exhibit items of Native American culture. The museum amassed an extensive collection of Native American cultural material collected by local farmers, families, and amateur archaeologists from the middle Columbia River region. Beginning in the 1950s, the State Parks partnered with local universities, the National Park Service, and local public utility districts to perform controlled excavations on park lands. The State Parks also borrowed objects from excavations outside park borders for the expressed purposes of interpretation at the museum.

The first set of remains consists of a single human sacrum with an embedded projectile point. Based on examinations by anthropologists, the human remains are believed to be consistent with Native American archaeological material, but definitive cultural identification is not possible. The point was also examined and, while it is consistent with the lithic typology of the region, its placement in the sacrum is believed to be contrived.

The second individual is comprised of a nearly complete set of human remains. Based on examination by an anthropologist, the human remains are consistent with Native American archaeological material and exhibit Native American cranial and dental morphological characteristics. Interviews with former park staff helped to narrow the acquisition of the remains by State Parks to between the late 1950s and 1975. In order to determine possible provenience of this individual, the archaeological collections displayed adjacent to this individual were examined but yielded no additional information about the remains.

Determinations Made by the Washington State Parks and Recreation Commission

Officials of the Washington State Parks and Recreation Commission have determined that:

• Based on cranial and dental morphology, it is believed that the human remains are Native American.

• Pursuant to 25 U.S.C. 3001(9), the human remains described in this notice represent the physical remains of two individuals of Native American ancestry.

• Pursuant to 25 U.S.C. 3001(2), a relationship of shared group identity cannot be reasonably traced between the Native American human remains and any present-day Indian tribe.

• According to final judgments of the Indian Claims Commission, the land from which both sets of remains were likely removed is the aboriginal lands of The Tribes and The Indian Group.

• Pursuant to 43 CFR 10.11(c)(1), the disposition of the human remains is to The Tribes and The Indian Group.

Additional Requestors and Disposition

Representatives of any Indian tribe that believes itself to be culturally affiliated with the human remains or any other Indian tribe that believes it satisfies the criteria in 43 CFR 10.11(c)(1) should contact Alicia Woods, Washington State Parks and Recreation Commission, P.O. Box 42650, Olympia, WA 98504-2650, telephone (360) 902-0939, before September 13, 2012. Disposition of the human remains to The Tribes and The Indian Group may proceed after that date if no additional requestors come forward.

The Washington State Parks and Recreation Commission is responsible for notifying The Tribes and The Indian Group that this notice has been published.

Dated: July 12, 2012.
David Tarler,
Acting Manager, National NAGPRA Program.

[FR Doc. 2012-19935 Filed 8-13-12; 8:45 am]

BILLING CODE 4312-50-P